SECURITIES AND EXCHANGE COMMISSION

[File No. 500-1]

In the Matter of: SHC Corp. (f/k/a Victormaxx Technologies, Inc.), Shells Seafood Restaurants, Inc., SI Restructuring, Inc. (f/k/a Schlotzsky's, Inc.), SLS Industries, Inc., Softlock.com, Inc. (n/k/a The Cap One Group, Inc.), Solar Satellite Communication, Inc., and Sonoran Energy, Inc.; Order of Suspension of Trading

June 16, 2011.

It appears to the Securities and Exchange Commission that there is a lack of current and accurate information concerning the securities of SHC Corp. (f/k/a Victormaxx Technologies, Inc.) because it has not filed any periodic reports since the period ended June 30, 2001.

It appears to the Securities and Exchange Commission that there is a lack of current and accurate information concerning the securities of Shells Seafood Restaurants, Inc. because it has not filed any periodic reports since the period ended June 29, 2008.

It appears to the Securities and Exchange Commission that there is a lack of current and accurate information concerning the securities of SI Restructuring, Inc. (f/k/a Schlotzsky's, Inc.) because it has not filed any periodic reports since June 30, 2004.

It appears to the Securities and Exchange Commission that there is a lack of current and accurate information concerning the securities of SLS Industries, Inc. because it has not filed any periodic reports since the period ended January 31, 1998.

It appears to the Securities and Exchange Commission that there is a lack of current and accurate information concerning the securities of Softlock.com, Inc. (n/k/a The Cap One Group, Inc.) because it has not filed any periodic reports since the period ended March 31, 2008.

It appears to the Securities and Exchange Commission that there is a lack of current and accurate information concerning the securities of Solar Satellite Communication, Inc. because it has not filed any periodic reports since the period ended September 30, 2002.

It appears to the Securities and Exchange Commission that there is a lack of current and accurate information concerning the securities of Sonoran Energy, Inc. because it has not filed any periodic reports since the period ended July 31, 2008.

The Commission is of the opinion that the public interest and the protection of investors require a suspension of trading in the securities of the above-listed companies.

Therefore, it is ordered, pursuant to Section 12(k) of the Securities Exchange Act of 1934, that trading in the securities of the above-listed companies is suspended for the period from 9:30 a.m. E.D.T. on June 16, 2011, through 11:59 p.m. EDT on June 29, 2011.

By the Commission.
Jill M. Peterson,
Assistant Secretary.

[FR Doc. 2011-15392 Filed 6-16-11; 4:15 pm]

BILLING CODE 8011-01-P